ENVIRONMENTAL PROTECTION AGENCY

[OPP-2004-0173; FRL-7643-3]

FIFRA Scientific Advisory Panel; Notice of Cancellation of Public Meeting

AGENCY: Environmental Protection Agency (EPA).

ACTION: Notice.

SUMMARY: The July 29 and 30, 2004, Federal Insecticide, Fungicide, and Rodenticide Act Scientific Advisory Panel (FIFRA SAP) meeting to consider and review Dimethoate issues related to the hazard and dose-response assessment was canceled. Any information related to the rescheduling of this meeting will be announced in a future Federal Register notice. For further information, please notify the Designated Federal Official (DFO) listed under FOR FURTHER INFORMATION CONTACT or see the Federal Register of June 21, 2004 (69 FR 34348) (FRL-7365-1).

FOR FURTHER INFORMATION CONTACT: Myrta Christian, DFO, Office of Science Coordination and Policy (7201M), Environmental Protection Agency, 1200 Pennsylvania Ave., NW., Washington, DC 20460; telephone number: (202) 564-8450; fax number: (202) 564-8382; e-mail address:christian.myrta@epa.gov.

List of Subjects

Environmental protection, Pesticides and pests.

Dated: August 3, 2004.
Joseph Merenda,
Director, Office of Science Coordination and Policy.

[FR Doc. 04-18022 Filed 8-5-04; 8:45 am]

BILLING CODE 6560-50-S